FEDERAL COMMUNICATIONS COMMISSION

Radio Broadcasting Services; AM or FM Proposals To Change the Community of License

AGENCY: Federal Communications Commission.

ACTION: Notice.

SUMMARY: The following applicants filed AM or FM proposals to change the community of License: American Family Association, Station KAFR, Facility ID 81300, BPED-20151229AAQ, From Conroe, TX, To Willis, TX; Brett E. Miller, Station NEW, Facility ID 197870, BNPH-20140121NGP, From Dayton, WA, To Island City, OR; CTC Media Group, Inc., Station WNOS, Facility ID 54363, BP-20160121ADA, From New Bern, NC, To Winterville, NC; Edgar Eaton, Station KHKF, Facility ID 198769, BMPH-20151231ABB, From Manzanita, OR, To Lincoln Beach, OR; Georgia-Carolina Radiocasting Company, LLC., Station WSNW-FM, Facility ID 84470, BPH-20151123ABO, From Tignall, GA, To Westminster, SC; Hi-Line Radio Fellowship, Station KGCM, Facility ID 122022, BPED-20151208ADK, From Belgrade, MT, To Three Forks, MT; Isleta Radio Company, Station KRKE, Facility ID 22391, BP-20151123BZF, From Milan, NM, To Eldorado, NM; JLD Media, LLC, Station KMTZ, Facility ID 166087, BPH-20151208ADJ, From Three Forks, MT, To Walkerville, MT; Mediactive, LLC., Station KZDR, Facility ID 10066, BPH-20160126AAK, From Kindred, ND, To Breckenridge, MN; New Wavo Communication Group, Inc., Station KVST, Facility ID 26858, BMPH-20151229ADK, From Willis, TX, To Huntsville, TX; Northwest Indy Radio, Station KBSG, Facility ID 174954, BPED-20160112ABE, From Westport, WA, To Raymond, WA; Radio Fargo-Moorhead, Inc., Station KPFX, Facility ID 47310, BPH-20160126AAL, From Fargo, ND, To Kindred, ND.

DATES: The agency must receive comments on or before May 16, 2016.

ADDRESSES: Federal Communications Commission, 445 Twelfth Street SW., Washington, DC 20554.

FOR FURTHER INFORMATION CONTACT: Tung Bui, 202-418-2700.

SUPPLEMENTARY INFORMATION: The full text of these applications is available for inspection and copying during normal business hours in the Commission's Reference Center, 445 12th Street SW., Washington, DC 20554 or electronically via the Media Bureau's Consolidated Data Base System, http://licensing.fcc.gov/prod/cdbs/pubacc/prod/cdbs_pa.htm.

Federal Communications Commission.
James D. Bradshaw,
Deputy Chief, Audio Division, Media Bureau.

[FR Doc. 2016-05882 Filed 3-15-16; 8:45 am]

BILLING CODE 6712-01-P